DEPARTMENT OF TRANSPORTATION

Federal Highway Administration

Surface Transportation Environment and Planning Cooperative Research Program (STEP)

AGENCY: Federal Highway Administration (FHWA), DOT.

ACTION: Notice.

SUMMARY: Section 5207 of the Safe, Accountable, Flexible, Efficient Transportation Equity Act: A Legacy for Users (SAFETEA-LU) established the Surface Transportation Environment and Planning Cooperative Research Program (STEP). The FHWA anticipates that the STEP or a similar program to provide resources for national research on issues related to planning, environment, and realty will be included in future surface transportation legislation. In Fiscal Year (FY) 2011, the FHWA expects to seek partnerships that can leverage limited research funding in the STEP with other stakeholders and partners in order to increase the total amount of resources available to meet the Nation's surface transportation research needs.

The purpose of this notice is to announce revisions to the STEP implementation strategy for FY 2011 and to request suggested lines of research for the FY 2011 STEP via the STEP Web site at http://www.fhwa.dot.gov/hep/step/index.htm in anticipation of future surface transportation legislation.

DATES: Suggestions for lines of research should be submitted to the STEP Web site on or before September 30, 2010.

FOR FURTHER INFORMATION CONTACT: Felicia Young, Office of Interstate and Border Planning, (202) 366-1263, Felicia.young@dot.gov; or Grace Reidy, Office of the Chief Counsel, (202) 366-6226; Federal Highway Administration, 1200 New Jersey Avenue, SE., Washington, DC 20590. Office hours are from 7:45 a.m. to 4:15 p.m., e.t., Monday through Friday, except Federal holidays.

SUPPLEMENTARY INFORMATION:

Electronic Access

An electronic copy of this notice may be downloaded from the Office of the Federal Register's home page at http://www.archives.gov and the Government Printing Office's Web site at http://www.access.gpo.gov.

Background

Section 5207 of the Safe, Accountable, Flexible, Efficient Transportation Equity Act: A Legacy for Users (SAFETEA-LU) (Pub. L. 109-59, Aug. 10, 2005), established the Surface Transportation Environment and Planning Cooperative Research Program, in section 507 of Title 23, United States Code. The FHWA anticipates that the STEP or a similar program to provide resources for national research on issues related to planning, environment, and realty will be included in future surface transportation legislation. The general objective of the STEP is to improve understanding of the complex relationship between surface transportation, planning, and the environment.

The SAFETEA-LU provided $16.875 million per year for FY 2006-2009 to implement this cooperative research program. Due to obligation limitations, recissions, and congressional designation of Title V Research in SAFETEA-LU, on average $14.5 million of the $16.875 million authorized was available each fiscal year. We anticipate similar funding levels in the next authorization.

The STEP is the primary source of funds for FHWA to conduct research and develop tools and technologies to advance the state of the practice regarding national surface transportation and environmental decisionmaking. In FY 2011, the FHWA expects to seek partnerships that can leverage limited research funding in the STEP with other stakeholders and partners in order to increase the total amount of resources available to meet the nation's surface transportation research needs.

The FY 2011 STEP will support the implementation of a national research agenda that includes:

(1) Conducting research to develop climate change mitigation, adaptation and livability strategies;

(2) Developing and/or supporting accurate models and tools for evaluating transportation measures and developed indicators of economic, social, and environmental performance of transportation systems to facilitate alternative analysis;

(3) Developing and deploying research to address congestion reduction efforts;

(4) Developing transportation safety planning strategies for surface transportation systems and improvements;

(5) Improving planning, operation, and management of surface transportation systems and rights of way;

(6) Enhancing knowledge of strategies to improve transportation in rural areas and small communities;

(7) Strengthening and advancing State/local and tribal capabilities regarding surface transportation and the environment;

(8) Improving transportation decisionmaking and coordination across borders;

(9) Improving state of the practice regarding the impact of transportation on the environment;

(10) Conducting research to promote environmental streamlining/stewardship and sustainability;

(11) Disseminating research results and advances in state of the practice through peer exchanges, workshops, conferences, etc;

(12) Meeting additional priorities as determined by the Secretary; and

(13) Refining the scope and research emphases through active outreach and in consultation with stakeholders.

The FHWA is issuing this notice to: (1) To announce revisions to the STEP Implementation Strategy for the FY 2011 STEP in anticipation of future surface transportation legislation, and (2) to solicit comments on proposed research activities to be undertaken in the FY 2011 STEP via the STEP Web site. The STEP Implementation Strategy was revised to: Update information on the graph and chart regarding historical planning and environment research funding, and to add information about proposed FY 2011 STEP including proposed funding levels, goals, and potential research activities.

We invite the public to visit this Web site to obtain additional information on the STEP, as well as information on the process for forwarding comments to the FHWA regarding the STEP implementation plan. The URL for the STEP Web site is:

The FHWA will use this Web site as a major mechanism for informing the public regarding the status of the STEP.

Authority: 23 U.S.C. 507.

Issued on: June 21, 2010.
Victor M. Mendez,
Administrator.

[FR Doc. 2010-15949 Filed 7-1-10; 8:45 am]

BILLING CODE 4910-22-M